DEPARTMENT OF LABOR

Employment and Training Administration

[TA-W-41,686]

Buehler Motor, Inc, Kinston, NC; Notice of Termination of Investigation

Pursuant to section 221 of the Trade Act of 1974, an investigation was initiated on June 17, 2002, in response to a petition filed by a company official on behalf of workers at Buehler Motor, Inc., Kinston, North Carolina.

The petitioner has requested that the petition be withdrawn. Consequently, further investigation in this case would serve no purpose, and the investigation has been terminated.

Signed in Washington, DC, this 25th day of June, 2002.
Edward A. Tomchick,
Director, Division of Trade Adjustment Assistance.

[FR Doc. 02-17140 Filed 7-8-02; 8:45 am]

BILLING CODE 4510-30-P